DEPARTMENT OF THE TREASURY

Internal Revenue Service

Proposed Collection; Comment Request Relating to Consent for Disclosure of Non-Tax IRS Records Protected Under the Privacy Act and IRS Request for Individual Access to Non-Tax Records Under the Privacy Act

AGENCY: Internal Revenue Service (IRS), Treasury.

ACTION: Notice and request for comments.

SUMMARY: The Internal Revenue Service, as part of its continuing effort to reduce paperwork and respondent burden, invites the general public and other Federal agencies to take this opportunity to comment on continuing information collections, as required by the Paperwork Reduction Act of 1995. The IRS is soliciting comments concerning consent for disclosure of non-tax IRS records protected under the privacy act and IRS request for individual access to non-tax records under the privacy act.

DATES: Written comments should be received on or before February 12, 2024 to be assured of consideration

ADDRESSES: Direct all written comments to Andres Garcia, Internal Revenue Service, Room 6526, 1111 Constitution Avenue NW, Washington, DC 20224, or by email to pra.comments@irs.gov. Include OMB control number 1545-2180 or Consent for Disclosure of Non-Tax IRS Records Protected under the Privacy Act and IRS Request for Individual Access to Non-Tax Records under the Privacy Act.

FOR FURTHER INFORMATION CONTACT: Requests for additional information or copies of the forms should be directed to Kerry Dennis at (202) 317-5751, or at Internal Revenue Service, Room 6526, 1111 Constitution Avenue NW, Washington, DC 20224, or through the internet, at Kerry.L.Dennis@irs.gov.

SUPPLEMENTARY INFORMATION:

Title: Consent for Disclosure of Non-Tax IRS Records Protected under the Privacy Act and IRS Request for Individual Access to Non-Tax Records under the Privacy Act.

OMB Number: 1545-XXXX.

Form Numbers: 15293 and 15603.

Abstract: Form 15293 is used as an option to consent and approve disclosure of your non-tax IRS records. This form may be used by the parent consenting to and authorizing disclosure of the records of a minor or the legal guardian consenting to and authorizing disclosures of the records of an incompetent. Form 15603 is used to request access to non-tax records from a Privacy Act System of Records. This form may also be used by the parent seeking access to the records of a minor or the legal guardian seeking access to the records of an incompetent.

Current Actions: This form is being submitted for OMB approval.

Type of Review: New collection.

Affected Public: Individuals.

Estimated Number of Respondents: 300.

Estimated Time per Response: 15 minutes.

Estimated Total Annual Burden Hours: 4,500 hours.

The following paragraph applies to all the collections of information covered by this notice.

An agency may not conduct or sponsor, and a person is not required to respond to, a collection of information unless the collection of information displays a valid OMB control number. Books or records relating to a collection of information must be retained if their contents may become material in the administration of any internal revenue law. Generally, tax returns and tax return information are confidential, as required by 26 U.S.C. 6103.

Request for Comments: Comments submitted in response to this notice will be summarized and/or included in the request for OMB approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: December 6, 2023.
Kerry L. Dennis,
Tax Analyst.

[FR Doc. 2023-27239 Filed 12-11-23; 8:45 am]

BILLING CODE 4830-01-P